DEPARTMENT OF ENERGY

Western Area Power Administration

Parker-Davis Project—Extension of Electric Power Resource Commitments by Application of the Energy Planning and Management Program Power Marketing Initiative

AGENCY: Western Area Power Administration, DOE.

ACTION: Notice of proposal.

SUMMARY: The Western Area Power Administration (Western), a Federal power marketing agency of the Department of Energy, announces its Post-2008 re-marketing effort for the Parker-Davis Project (P-DP). Current P-DP long-term, Firm Electric Service (FES) contracts will expire on September 30, 2008. In 1995, Western adopted the Power Marketing Initiative (PMI) in Subpart C of the Energy Planning and Management Program (Program). The Record of Decision for the Program states that application of the PMI will be done on a project-specific basis. If, by means of a public process, Western applies the PMI to the P-DP, the current long-term FES customers of the project would receive an extension of a major portion of the resources available to them at the time their contracts expire. Western now proposes to apply the PMI to the long-term, firm power contracts of the P-DP.

DATES: Western will hold three public information forums on the following dates: 1. September 16, 2002, 1 p.m. to 4 p.m., Las Vegas, Nevada, 2. September 17, 2002, 1 p.m. to 4 p.m., Phoenix, Arizona, 3. September 18, 2002, 1 p.m. to 4 p.m., Ontario, California.

Following the public information forums, Western will hold three public comment forums. The dates for these forums are as follows: 1. October 8, 2002, 1 p.m. to 4 p.m., Las Vegas, Nevada, 2. October 9, 2002, 1 p.m. to 4 p.m., Phoenix, Arizona, 3. October 10, 2002, 1 p.m. to 4 p.m., Ontario, California. Western will accept written comments on or before November 6, 2002.

ADDRESSES: Comments may be submitted to: Mr. J. Tyler Carlson, Western Area Power Administration, Desert Southwest Regional Manager, P.O. Box 6457, Phoenix, AZ 85005-6457. Comments may also be faxed to (602) 352-2490 or e-mailed to Post2008pdp@wapa.gov.

The public information and public comment forum locations are:

1. McCarran International Airport, 5th Floor, Commissioner's Meeting Room, Las Vegas, Nevada; 2. Western Area Power Administration, Desert Southwest Regional Office, 615 S. 43rd Ave, Phoenix, Arizona; 3. DoubleTree Ontario Airport, 222 N. Vineyard, Ontario, California.

FOR FURTHER INFORMATION CONTACT: Roy Tinsley, Project Manager, Desert Southwest Region, Western Area Power Administration, 615 S. 43rd Ave., Phoenix, AZ 85005, telephone (602) 352-2788, e-mail Post2008pdp@wapa.gov. Program information and the current P-DP marketing plan are available for viewing at http://www.wapa.gov/dsw/pwrmkt.

SUPPLEMENTARY INFORMATION: In 1987, Western marketed the long-term, firm power resources of the Parker and Davis dams and entered into 20-year term FES contracts with the current P-DP customers. These FES contracts will expire on September 30, 2008. Western must determine if the PMI, as outlined in the Energy Planning and Management Program (Program), will be applied to the P-DP for FES commitments beyond that date.

Western first proposed the Program on April 19, 1991 (56 FR 16093). The goals of the Program were to encourage efficient energy use by Western's long-term, firm power customers by requiring Integrated Resource Planning and to extend Western's firm power resource commitments. In the final rule of the Program, Western stated that application of the PMI, including the amount of resources extended, would initially apply only to the Pick-Sloan Missouri Basin Program-Eastern Division (P-S) and the Loveland Area Projects (LAP). Applicability to other projects would be determined through future, project-specific public processes. Specific to the P-DP, the rule stated that Western would evaluate application of the PMI to the Parker-Davis Project no more than 10 years before existing contracts expire.

The PMI calls for extending a major portion of existing firm power sales commitments for 20 years beyond the existing termination date. With respect to P-S and LAP, a commitment of not less than 96 percent of the hydroelectric power resource determined to be available to the customers was to be extended, and a power resource pool of up to 4 percent of the power from these customers would be created. In addition, the PMI states that “at two 5-year intervals after the effective date of the extension to existing customers, Western will create a project-specific resource pool increment of up to an additional 1 percent of the long-term marketable resource under contract at the time.” The resource pool would be used for allocations to new customers. The rule stated that a more precise decision on how resource pools would be used, as well as the percentage of existing commitments extended, would be determined through future, project-specific public processes.

Consistent with the application of the PMI to other recent Western marketing efforts, Western proposes to apply the PMI (10 CFR parts 905.31 through 905.37), to the P-DP. This includes a proposal to extend 94 percent of the P-DP customers' entitlement of long-term, firm P-DP resources as of September 30, 2008, for an additional 20 years. Given the direction contained within the PMI for a “reservation of a modest percentage of resources to create a resource pool,” Western proposes that a resource pool of 6 percent of available P-DP resources be established for new customers. Western proposes creation of a single, one-time resource pool of a definite size, due to the costs and effort associated with incremental resource pools as experienced by the P-S and LAP projects, and given the small size of the proposed P-DP resource pool relative to those of other Western projects. During the most recent marketing effort of the Salt Lake City Area Integrated Projects, which shares many of the same P-DP customers, a single resource pool was created in response to public comments.

The existing P-DP marketing plan defines the marketing area as generally consisting of southern California, southern Nevada, most of Arizona, and a small part of New Mexico; and is more specifically defined in the Conformed General Consolidated Power Marketing Criteria or Regulations for Boulder City Area Projects (49 FR 50582, December 28, 1984). New customers meeting the requirements established in the P-DP Marketing Criteria and qualifying Native American tribes within the P-DP marketing area will be eligible to request an allocation of capacity and energy from the P-DP resource pool. Native American tribes need not have utility status to qualify for an allocation. Adjustments may be made to resource allocations at any time to reflect changes in dam operations and/or water conditions upon 5 years notification.

As provided in the current P-DP Advancement of Funds contract, new customers will be required to reimburse existing customers for undepreciated replacement advances, to the extent existing customers' allocations are reduced as a result of creating the resource pool. New customers who receive an allocation will also be required to participate in advance funding of Western's and the Bureau of Reclamation's operation and maintenance expenses.

Western is seeking comments regarding the applicability of the PMI to the P-DP, the percentage of resources to be extended to existing customers, and the size of the proposed resource pool. Following the public comment period, Western will analyze the comments received and publish its policy regarding extension of resource commitments in the Federal Register.

I. Review Under the Regulatory Flexibility Act

The Regulatory Flexibility Act, 5 U.S.C. 601-621, requires Federal agencies to perform a regulatory flexibility analysis if a final rule is likely to have a significant economic impact on a substantial number of small entities and there is a legal requirement to issue a general notice of proposed rulemaking. Western has determined this action does not require a regulatory flexibility analysis since it is a rulemaking of particular applicability involving rates or services applicable to public property.

II. Small Business Regulatory Enforcement Fairness Act

Western determined this rule is exempt from congressional notification requirements under 5 U.S.C. 801 because the action is a rulemaking of particular applicability relating to rates or services and involves matters of procedure.

III. Determination 12866

DOE has determined that this is not a significant regulatory action because it does not meet the criteria of Executive Order 12866, 58 FR 51735. Western has an exemption from centralized regulatory review under Executive Order 12866; accordingly, this notice requires no clearance by the Office of Management and Budget.

IV. Environmental Compliance

Western has completed an environmental impact statement on the Program, pursuant to the National Environmental Policy Act of 1969 (NEPA). The Record of Decision was published in 60 FR 53181, October 12, 1995. Western's NEPA review assured all environmental effects related to these actions have been analyzed.

Dated: July 26, 2002.
Michael S. Hacskaylo,
Administrator.

[FR Doc. 02-20062 Filed 8-7-02; 8:45 am]

BILLING CODE 6450-01-P